DEPARTMENT OF COMMERCE

National Institute of Standards and Technology

Visiting Committee on Advanced Technology

AGENCY: National Institute of Standards and Technology, Department of Commerce.

ACTION: Notice of public meeting.

SUMMARY: Pursuant to the Federal Advisory Committee Act, 5 U.S.C. app. 2, notice is hereby given that the Visiting Committee on Advanced Technology (VCAT), National Institute of Standards and Technology (NIST), will meet Tuesday, October 28, 2008, from 8 a.m. to 5 p.m. and Wednesday, October 29, 2008, from 8:30 a.m. to 12:30 p.m. The Visiting Committee on Advanced Technology is composed of fifteen members appointed by the Director of NIST who are eminent in such fields as business, research, new product development, engineering, labor, education, management consulting, environment, and international relations.

The purpose of this meeting is to review and make recommendations regarding general policy for the Institute, its organization, its budget, and its programs within the framework of applicable national policies as set forth by the President and the Congress. The theme for the meeting is “NIST's Roles in Innovation and NIST's Strategic Plan.” The agenda will include an update on NIST, presentations on Safety at NIST, a review of NIST's roles in innovation, a review of NIST's external relationships, and an overview of NIST's Strategic Plan, followed by an update on the Biosciences Strategic Plan, the status of the Nanotechnology Strategic Plan, and a presentation on the NIST Facilities Strategic Plan. Guest speakers have been invited to address the benefits and potential benefits of selected NIST partnerships. Other agenda items include laboratory tours and a VCAT feedback session on draft recommendations for the 2008 Annual Report. The agenda may change to accommodate Committee business. The final agenda will be posted on the NIST Web site at http://www.nist.gov/director/vcat/agenda.htm.

DATES: The meeting will convene on October 28, 2008, at 8 a.m. and will adjourn on October 29, 2008, at 12:30 p.m.

ADDRESSES: The meeting will be held in Building 1, Room 1107, at the National Institute of Standards and Technology, Boulder, Colorado 80305.

Anyone wishing to attend this meeting should submit name, e-mail address and phone number to Denise Herbert (denise.herbert@nist.gov or 301-975-5607) no later than October 10, 2008.

FOR FURTHER INFORMATION CONTACT: Denise Herbert, Visiting Committee on Advanced Technology, National Institute of Standards and Technology, Gaithersburg, Maryland 20899-1000, telephone number (301) 975-2300.

Dated: September 23, 2008.
Patrick Gallagher,
Deputy Director.

[FR Doc. E8-22987 Filed 9-29-08; 8:45 am]

BILLING CODE 3510-13-P